EXPORT-IMPORT BANK OF THE U.S.

[Public Notice 2014-3011]

Agency Information Collection Activities: Final Collection; Comment Request

AGENCY: Export-Import Bank of the U.S.

ACTION: Submission for OMB review and comments request.

Form Title: EIB 11-04, Co-Financing with Foreign Export Credit Agency.

SUMMARY: The Export-Import Bank of the United States (Ex-Im Bank), as a part of its continuing effort to reduce paperwork and respondent burden, invites the general public and other Federal Agencies to comment on the proposed information collection, as required by the Paperwork Reduction Act of 1995.

This form will enable Ex-Im Bank to identify the specific details of the proposed co-financing transaction between a U.S. exporter, Ex-Im Bank, and a foreign export credit agency; the information collected includes vital facts such as the amount of U.S.-made content in the export, the amount of financing requested from Ex-Im Bank, and the proposed financing amount from the foreign export credit agency. These details are necessary for approving this unique transaction structure and coordinating our support with that of the foreign export credit agency to ultimately complete the transaction and support U.S. exports—and U.S. jobs. The form can be viewed at: http://www.exim.gov/pub/pending/eib11-04.pdf.

DATES: Comments should be received on or before March 2, 2015, 2014 to be assured of consideration.

ADDRESSES: Comments may be submitted electronically on http://www.regulations.gov (EIB:11-04) or by mail to Office of Information and Regulatory Affairs, 725 17th Street NW., Washington, DC 20038 Attn: OMB 3048-0037.

SUPPLEMENTARY INFORMATION:

Titles and Form Number: EIB11-04, Co-Financing with Foreign Export Credit Agency.

OMB Number: 3048-0037.

Type of Review: Regular.

Need and Use: The information collected will provide information needed to determine compliance and creditworthiness for transaction requests submitted to the Export Import Bank under its insurance, guarantee, and direct loan programs.

Affected Public:

This form affects entities involved in the export of U.S. goods and services.

Annual Number of Respondents: 60.

Estimated Time per Respondent: 15 minutes.

Annual Burden Hours: 15 hours.

Frequency of Reporting or Use: As needed.

Government Expenses:

Reviewing Time per Year: 15 hours.

Average Wages per Hour: $42.50.

Average Cost per Year: $637.50 (time*wages).

Benefits and Overhead: 20%.

Total Government Cost: $765.

Toya Woods,
Records Management Division, Office of the Information Officer.

[FR Doc. 2015-01688 Filed 1-28-15; 8:45 am]

BILLING CODE 6690-01-P